DEPARTMENT OF COMMERCE

International Trade Administration

[C-570-953]

Narrow Woven Ribbons With Woven Selvedge From the People's Republic of China: Final Results of Countervailing Duty Administrative Review; 2012

AGENCY: Enforcement and Compliance, International Trade Administration, Department of Commerce.

SUMMARY: The Department of Commerce (the Department) is conducting an administrative review of the countervailing duty order on narrow woven ribbons with woven selvedge (ribbons) from the People's Republic of China (PRC). The period of review (POR) is January 1, 2012, through December 31, 2012. We find that Yangzhou Bestpak Gifts & Crafts Co., Ltd. (Bestpak) received countervailable subsidies during the POR.

DATES: Effective Date: December 29, 2014.

FOR FURTHER INFORMATION CONTACT: Dana Mermelstein or Joshua Morris, AD/CVD Operations, Office I, Enforcement and Compliance, International Trade Administration, U.S. Department of Commerce, 14th Street and Constitution Avenue NW., Washington, DC 20230; telephone: (202) 482-1391 or (202) 482-1779.

Case History

No party submitted comments on the Preliminary Results, which were published by the Department on June 25, 2014.¹ The events that have occurred since we published the Preliminary Results are discussed in the Memorandum to Paul Piquado, Assistant Secretary for Enforcement and Compliance, “Decision Memorandum for Final Results of Countervailing Duty Administrative Review: Narrow Woven Ribbons with Woven Selvedge from the People's Republic of China” (Decision Memorandum), dated December 22, 2014, which is hereby adopted by this notice. A list of the topics included in the Decision Memorandum is attached as an Appendix to this notice.

¹ See Narrow Woven Ribbons With Woven Selvedge From the People's Republic of China: Preliminary Results of Countervailing Duty Administrative Review; 2012, 79 FR 36013 (June 25, 2014) (Preliminary Results).

The Decision Memorandum is a public document and is on file electronically via the Antidumping and Countervailing Duty Centralized Electronic Service System (ACCESS). ACCESS is available to registered users at http://access.trade.gov and in the Central Records Unit, room 7046 of the main Department building. In addition, a complete version of the Decision Memorandum can be accessed directly on the internet at http://enforcement.trade.gov/frn/index.html/. The signed Decision Memorandum and the electronic versions of the Decision Memorandum are identical in content.

Scope of the Order

The scope of the order consists of ribbons. The merchandise subject to this order is classifiable under the Harmonized Tariff Schedule of the United States (HTSUS) statistical categories 5806.32.1020; 5806.32.1030; 5806.32.1050 and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. Although the HTSUS subheadings are provided for convenience and customs purposes, the written description, available in Narrow Woven Ribbons with Woven Selvedge from the People's Republic of China: Countervailing Duty Order, 75 FR 53642 (September 1, 2010), remains dispositive.

A full description of the scope of the order is contained in the Decision Memorandum.

Methodology

We conducted this review in accordance with section 751(a)(1)(A) of the Tariff Act of 1930, as amended (the Act). For each of the subsidy programs found countervailable, we have determined that there is a subsidy, i.e., a government-provided financial contribution by an “authority” that gives rise to a benefit to the recipient, and that the subsidy is specific.²

² See sections 771(5)(B)and (D) of the Act regarding financial contribution; section 771(5)(E) of the Act regarding benefit; and section 771(5A) of the Act regarding specificity.

In making these findings, we relied on facts available and, because Bestpak and the Government of the PRC did not act to the best of their ability to respond to our requests for information, we have drawn adverse inferences in selecting from among the facts otherwise available.³ For further information, see “Use of Facts Otherwise Available and Adverse Inferences” in the Decision Memorandum.

³ See sections 776(a) and (b) of the Act.

For a full description of the methodology underlying our conclusions, see the Decision Memorandum.

Changes from the Preliminary Results

No party submitted comments with respect to the Preliminary Results. Because we have identified more appropriate information for use as adverse facts available, we have revised the net subsidy rate for Bestpak accordingly. For a full description of that updated information and accompanying changes, see the Decision Memorandum.

Final Results of the Review

In accordance with 19 CFR 351.221(b)(4)(i), we calculated an individual subsidy rate for Bestpak for the period January 1, 2012, through December 31, 2012.

We find that the net subsidy rate for Bestpak is as follows:

Producer/exporter | Net subsidy rate %
Yangzhou Bestpak Gifts & Crafts Co., Ltd | 88.49

Disclosure and Public Comment

All calculations for these final results are contained in the Decision Memorandum and have been thereby disclosed.⁴

⁴ 19 CFR 351.224(b) calls for the Department to disclose calculations performed in connection with the final results of an administrative review within five days after the publication of the final results.

Assessment Rates

Consistent with section 751(a)(1) of the Act and 19 CFR 351.212(b)(2), upon issuance of the final results, we shall determine, and the U.S. Customs and Border Protection (CBP) shall assess, countervailing duties on all appropriate entries covered by this review. We intend to issue instructions to CBP 15 days after publication of these final results of this review in the Federal Register.

Cash Deposit Requirements

We intend to instruct CBP to collect cash deposits of countervailing duties in the amount shown above for Bestpak. For all non-reviewed firms, we will instruct CBP to continue to collect cash deposits of estimated countervailing duties at the most recent company-specific or all-others rate applicable to the company. These cash deposit requirements, when imposed, shall remain in effect until further notice.

This administrative review and notice are in accordance with sections 751(a)(1) and 777(i) of the Act and 19 CFR 351.213.

Dated: December 19, 2014.
Paul Piquado,
Assistant Secretary for Enforcement and Compliance.

Appendix—List of Topics Discussed in the Decision Memorandum

I. Summary

II. Background

III. Scope of the Order

IV. Use of Facts Otherwise Available and Adverse Inferences

A. Application of AFA to Bestpak

B. Subsidy Rate Chart

V. Disclosure

VI. Recommendation

[FR Doc. 2014-30390 Filed 12-24-14; 8:45 am]

BILLING CODE 3510-DS-P